INTERNATIONAL TRADE COMMISSION

[Investigation No. 731-TA-461 (Fifth Review)]

Gray Portland Cement and Cement Clinker From Japan

Determination

On the basis of the record ¹ developed in the subject five-year review, the United States International Trade Commission (“Commission”) determines, pursuant to the Tariff Act of 1930 (“the Act”), that revocation of the antidumping duty order on gray portland cement and cement clinker from Japan would be likely to lead to continuation or recurrence of material injury to an industry in the United States within a reasonably foreseeable time.

¹ The record is defined in § 207.2(f) of the Commission's Rules of Practice and Procedure (19 CFR 207.2(f)).

Background

The Commission instituted this review on June 1, 2022 (87 FR 33210) and determined on September 6, 2022, that it would conduct an expedited review (87 FR 78995, December 23, 2022).

The Commission made this determination pursuant to section 751(c) of the Act (19 U.S.C. 1675(c)). It completed and filed its determination in this review on January 26, 2023. The views of the Commission are contained in USITC Publication 5401 (January 2023), entitled Gray Portland Cement and Cement Clinker from Japan: Investigation No. 731-TA-461 (Fifth Review).

By order of the Commission.
Issued: January 26, 2023.
Katherine Hiner,
Acting Secretary to the Commission.

[FR Doc. 2023-02008 Filed 1-31-23; 8:45 am]

BILLING CODE 7020-02-P